DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of January 26, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Indian River County, Florida and Incorporated Areas
Docket No.: FEMA-B-1849
City of Fellsmere | City Hall, 22 South Orange Street, Fellsmere, FL 32948.
City of Sebastian | City Hall, 1225 Main Street, Sebastian, FL 32958.
City of Vero Beach | Planning and Development Department, 1053 20th Place, Vero Beach, FL 32960.
Town of Indian River Shores | Town Hall, 6001 North Highway A1A, Indian River Shores, FL 32963.
Town of Orchid | Orchid Town Hall, 7707 U.S. Highway 1, Suite 1, Vero Beach, FL 32967.
Unincorporated Areas of Indian River County | Indian River County Planning Department, Administration Building, 1801 27th Street, Building A, Vero Beach, FL 32960.
Hancock County, Georgia and Incorporated Areas
Docket No.: FEMA-B-2169
Unincorporated Areas of Hancock County | Hancock County Planning and Zoning, 40 Courthouse Square, Sparta, GA 31087.
Morgan County, Georgia and Incorporated Areas
Docket No.: FEMA-B-2169
City of Bostwick | City Hall, 5941 Bostwick Road, Bostwick, GA 30623.
City of Madison | Planning Department, 162 North Main Street, Madison, GA 30650.
City of Rutledge | City Hall, 105 Newborn Road, Rutledge, GA 30663.
Town of Buckhead | Town Hall, 4741 Buckhead Road, Buckhead, GA 30625.
Unincorporated Areas of Morgan County | Morgan County Planning and Development, 150 East Washington Street, Madison, GA 30650.
Putnam County, Georgia and Incorporated Areas
Docket No.: FEMA-B-2169
City of Eatonton | City Hall, 201 North Jefferson Avenue, Eatonton, GA 31024.
Unincorporated Areas of Putnam County | Putnam County Administration, 117 Putnam Drive, Suite B, Eatonton, GA 31024.
Lake County, Indiana and Incorporated Areas
Docket No.: FEMA-B-2031
City of East Chicago | City Hall, 4525 Indianapolis Boulevard, East Chicago, IN 46312.
City of Gary | City Hall, 401 Broadway, Gary, IN 46402.
City of Hammond | City Hall, 5925 Calumet Avenue, Hammond, IN 46320.
City of Whiting | City Hall, 1443 119th Street, Whiting, IN 46394.
Unincorporated Areas of Lake County | County Building, 2293 North Main Street, Crown Point, IN 46307.

[FR Doc. 2022-18712 Filed 8-29-22; 8:45 am]

BILLING CODE 9110-12-P